SECURITIES AND EXCHANGE COMMISSION

[File No. 500-1]

In the Matter of All Energy Corp., and As Seen On TV, Inc.; Order of Suspension of Trading

September 16, 2016.

It appears to the Securities and Exchange Commission that there is a lack of current and accurate information concerning the securities of All Energy Corp. (CIK No. 1103384), a delinquent Delaware corporation with its principal place of business listed as Johnston, Iowa, with stock quoted on OTC Link (previously, “Pink Sheets”) operated by OTC Markets Group, Inc. (“OTC Link”) under the ticker symbol AFSE, because it has not filed any periodic reports since the period ended September 30, 2014. On December 16, 2014, All Energy Corp. was sent a delinquency letter by the Division of Corporation Finance requesting compliance with its periodic filing obligations, and All Energy Corp. received the delinquency letter on December 22, 2014, but failed to cure its delinquencies.

It appears to the Securities and Exchange Commission that there is a lack of current and accurate information concerning the securities of As Seen On TV, Inc. (CIK No. 1432967), a Florida corporation with its principal place of business listed as Austin, Texas, with stock quoted on OTC Link under the ticker symbol ASTV, because it has not filed any periodic reports since the period ended December 31, 2014. On December 9, 2015, As Seen On TV, Inc. was sent a delinquency letter by the Division of Corporation Finance requesting compliance with its periodic filing obligations, and As Seen On TV, Inc. received the delinquency letter on December 12, 2015, but failed to cure its delinquencies.

The Commission is of the opinion that the public interest and the protection of investors require a suspension of trading in the securities of the above-listed company.

Therefore, it is ordered, pursuant to Section 12(k) of the Securities Exchange Act of 1934, that trading in the securities of the above-listed company is suspended for the period from 9:30 a.m. EDT on September 16, 2016, through 11:59 p.m. EDT on September 29, 2016.

By the Commission.
Brent J. Fields,
Secretary.

[FR Doc. 2016-22731 Filed 9-16-16; 4:15 pm]

BILLING CODE 8011-01-P